DEPARTMENT OF THE INTERIOR

Bureau of Land Management

[LLNVS00000 L12200000.PM0000 LXSS006F0000 261A; 12-08807; MO# 4500032858; TAS: 14X1109]

Notice of Public Meetings: Northeastern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Nevada Northeastern Great Basin Resource Advisory Council (RAC), will hold three meetings in Nevada in fiscal year 2012. All meetings are open to the public.

DATES AND TIMES: April 19 at the California Trail Interpretive Center, 8 miles west of Elko, Nevada at Hunter exit of Interstate 80; July 19 and 20 at the BLM Ely District Office, 702 N. Industrial Way, Ely, Nevada; and September 20, at the BLM Battle Mountain District Office, 50 Bastian Road, Battle Mountain, Nevada. Approximate meeting times are 8 a.m. to 4 p.m. However, meetings could end earlier if discussions and presentations conclude before 4 p.m. All meetings will include a public comment period at approximately 10 a.m.

FOR FURTHER INFORMATION CONTACT: Lesli Ellis-Wouters, Public Affairs Officer, Elko District Office, 3900 E. Idaho St., Elko, NV 89801. Telephone: (775) 753-0386. Email: lellis@blm.gov.

SUPPLEMENTARY INFORMATION: The 15-member Council advises the Secretary of the Interior, through the BLM, on a variety of planning and management issues associated with public land management in Nevada. Topics for discussion at each meeting will include, but are not limited to:

• April 19 (Elko)—Rangeland Health Assessments, Battle Mountain Resource Management Plan, greater sage-grouse conservation, and recreation;

• July 19 and 20 (Ely)—field tour to Spring Valley Wind/Falcon-Gonder/Online (SWIP) transmission lines and greater sage-grouse leks;

• September 20 (Battle Mountain)—tour of Shoshone Off-Highway Vehicle trail and wild horse and burro program.

Managers' reports of field office activities will be given at each meeting. The Council may raise other topics at any of the three planned meetings.

Final agendas will be posted on-line at the BLM Northeastern Great Basin Resource Advisory Council Web site at http://www.blm.gov/nv/st/en/res/resource_advisory.html and will be published in local and regional media sources at least 14 days before each meeting.

Individuals who need special assistance such as sign language interpretation or other reasonable accommodations, or who wish to receive a copy of each agenda, may contact Lesli Ellis-Wouters no later than 10 days prior to each meeting.

Erica Haspiel-Szlosek,
Chief, Office of Communications.

[FR Doc. 2012-6638 Filed 3-19-12; 8:45 am]

BILLING CODE 4310-HC-P